DEPARTMENT OF DEFENSE

GENERAL SERVICES ADMINISTRATION

NATIONAL AERONAUTICS AND SPACE ADMINISTRATION

48 CFR Part 52

[FAC 2005-87; Technical Amendment; Corrections; Docket 2016-0052; Sequence No. 1]

Federal Acquisition Regulation; Technical Amendment; Corrections

AGENCIES: Department of Defense (DoD), General Services Administration (GSA), and National Aeronautics and Space Administration (NASA).

ACTION: Correcting amendments.

SUMMARY: DoD, GSA, and NASA are issuing a correction to FAC 2005-87; Technical Amendment; (Item II), which was published in the Federal Register at 81 FR 11988, March 7, 2016.

DATES: Effective: March 16, 2016.

FOR FURTHER INFORMATION CONTACT: Ms. Hada Flowers, Regulatory Secretariat Division (MVCB), 1800 F Street NW., 2nd Floor, Washington, DC 20405, 202-501-4755. Please cite FAC 2005-87, Technical Amendments; Corrections.

SUPPLEMENTARY INFORMATION:

Background

The dates to the amended FAR sections were inadvertently stated on the Federal Register publication.

Need for Corrections

As published, the final Technical Amendment document contains errors which may prove to be misleading and need to be clarified.

List of Subjects in 48 CFR Part 52

Government procurement.

Accordingly, 48 CFR part 52 is corrected by making the following correcting amendments:

PART 52-SOLICITATION PROVISIONS AND CONTRACT CLAUSES

1. The authority citation for part 52 continues to read as follows:

Authority: 40 U.S.C. 121(c); 10 U.S.C. chapter 137; and 51 U.S.C. 20113.

2. In section 52.212-5:

a. In paragraphs (c)(8), and (e)(1)(xv), remove “(MAR 2016)” and add “(DEC 2015)” in their places, respectively.

b. Revise the date of Alternate II, and remove from paragraph (e)(1)(ii)(N) “(MAR 2016)” and add “(DEC 2015)” in its place.

The revision reads as follows:

52.212-5 Contract Terms and Conditions Required to Implement Statutes or Executive Orders—Commercial Items.

* * * * *

Alternate II (MAR 2016).

* * * * *

52.213-4 [Corrected]

3. Remove from section 52.213-4, paragraph (b)(1)(ix) “(MAR 2016)” and add “(DEC 2015)” in its place.

Dated: March 11, 2016.
William Clark,
Director, Office of Government-wide Acquisition Policy, Office of Acquisition Policy, Office of Government-wide Policy.

[FR Doc. 2016-05920 Filed 3-15-16; 8:45 am]

BILLING CODE 6820-EP-P